DEPARTMENT OF HEALTH AND HUMAN SERVICES

Administration for Community Living

Agency Information Collection Activities; Proposed Collection; Comment Request; State Health Insurance Assistance Program Annual Sub-Recipients Report [OMB #0985-New]

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the Proposed Revised Collection and solicits comments on the information collection requirements related to the State Health Insurance Assistance Program Annual Sub-Recipients Report.

DATES: Comments on the collection of information must be submitted electronically by 11:59 p.m. (EST) or postmarked by September 29, 2020.

ADDRESSES: Submit electronic comments on the collection of information to: Margaret Flowers. Submit written comments on the collection of information to Administration for Community Living, Washington, DC 20201, Attention: Margaret Flowers.

FOR FURTHER INFORMATION CONTACT: Margaret Flowers, Administration for Community Living, Washington, DC 20201, 202-795-7315, Margaret.Flowers@acl.hhs.gov.

SUPPLEMENTARY INFORMATION: Under the PRA (44 U.S.C. 3501-3520), Federal agencies must obtain approval from the Office of Management and Budget (OMB) for each collection of information they conduct or sponsor. “Collection of information” is defined in the PRA and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document. With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates; (3) ways to enhance the quality, utility, and clarity of the information to be collected; and

(4) ways to minimize the burden of the collection of information on respondents, including through the use of automated collection techniques when appropriate, and other forms of information technology.

The purpose of this data collection is to collect sub-award data from grantees, including agency name, address, and annual federal funds received. Congress requires this data collection for program monitoring for the State Health Insurance Assistance Program (SHIP) under the Bipartisan Budget Act of 2018, SEC. 50207 (b). This data collection allows the Administration for Community Living (ACL) and the Center for Innovation and Partnership (CIP) to communicate with Congress and the public on the SHIP network of agencies. This is a new data collection requiring State SHIP grantees to provide the amount of federal funds provided annually to each sub-contractor and sub-grantee that are delivering SHIP services. The data collected will be will be electronically posted on the ACL website to educate the network on who the SHIP state sub-recipients are and how much money they are receiving.

SHIP grantees are located in each of the 50 states, the District of Columbia, Puerto Rico, Guam and the U.S. Virgin Islands. The respondents for this data collection are grantees who meet with Medicare beneficiaries and older adults' in-group settings and in one-on-one sessions to educate them on Medicare.

The proposed data collection tools may be found on the ACL website for review at https://www.acl.gov/about-acl/public-input.

Estimated Program Burden

ACL estimates the burden associated with this collection of information as follows:

Respondent/data collection activity | Number of respondents | Responses per respondent | Hours per response | Annual burden hours
| 54 | 1 | 1 | 54
Total | 54 | 1 | 1 | 54

Dated: July 27, 2020.
Mary Lazare,
Principal Deputy Administrator.

[FR Doc. 2020-16582 Filed 7-30-20; 8:45 am]

BILLING CODE 4154-01-P